DEPARTMENT OF HEALTH AND HUMAN SERVICES

Centers for Disease Control and Prevention

Disease, Disability, and Injury Prevention and Control Special Emphasis Panel (SEP): Surveillance, Natural History, Quality of Care and Outcomes of Diabetes Mellitus with Onset in Childhood and Adolescence, RFA DP 10-001, Initial Review

Correction: This notice was published in the Federal Register on March 22, 2010, volume 75, Number 54, Page 13560. The Place and time should read as follows:

Time and Date: 8:30 a.m.-6 p.m., June 15, 2010 (Closed).

Place: W Hotel, 3377 Peachtree Road, NE., Atlanta, GA 30326, Telephone: 678-500-3100.

Contact Person for More Information: Donald Blackman, Ph.D., Scientific Review Officer, National Center for Chronic Disease Prevention and Health Promotion, Office of the Director, Extramural Research Program Office, 4770 Buford Highway, NE., Mailstop K-92, Atlanta, GA 30341, Telephone: (770) 488-3023, E-mail: DBY7@cdc.gov.

The Director, Management Analysis and Services Office, has been delegated the authority to sign Federal Register notices pertaining to announcements of meetings and other committee management activities, for both CDC and the Agency for Toxic Substances and Disease Registry.

Dated: May 20, 2010.
Andre Tyler,
Acting Director, Management Analysis and Services Office, Centers for Disease Control and Prevention.

[FR Doc. 2010-12627 Filed 5-25-10; 8:45 am]

BILLING CODE 4163-18-P